DEPARTMENT OF LABOR

Mine Safety and Health Administration

30 CFR Parts 56, 57, and 71

RIN 1219-AB24

Asbestos Exposure Limit

AGENCY: Mine Safety and Health Administration, Labor.

ACTION: Final rule, technical amendment.

SUMMARY: The Mine Safety and Health Administration (MSHA) is amending and clarifying its existing health standards for asbestos exposure. The amendments make no substantive change to the existing standards, MSHA's enforcement of the standards, or the protection afforded miners under the standards.

DATES: This technical amendment is effective November 7, 2008.

FOR FURTHER INFORMATION CONTACT: Patricia W. Silvey at silvey.patricia@dol.gov (e-mail), 202-693-9440 (Voice), or 202-693-9441 (Fax).

SUPPLEMENTARY INFORMATION: MSHA published a final rule amending its health standards for asbestos exposure at metal and nonmetal mines, surface coal mines, and surface areas of underground coal mines on February 29, 2008 (73 FR 11284). The rule became effective on April 29, 2008. To assure that the mining community fully understands MSHA's intent with respect to certain provisions of the existing standards, the Agency is issuing this technical amendment. This technical amendment clarifies MSHA's definition of asbestos and analytical methods the Agency uses to enforce the existing asbestos exposure limit. As stated above, these clarifications do not change any substantive requirements and reflect MSHA's intent as explained in the preamble to the final rule issued on February 29, 2008.

List of Subjects

30 CFR Parts 56 and 57

Air quality, Asbestos, Chemicals, Hazardous substances, Metals, Mine safety and health.

30 CFR Part 71

Air quality, Asbestos, Chemicals, Coal mining, Hazardous substances, Mine safety and health.

Richard E. Stickler,
Acting Assistant Secretary for Mine Safety and Health.

For the reasons set out in the preamble, MSHA is amending title 30 of the Code of Federal Regulations as follows.

PART 56—SAFETY AND HEALTH STANDARDS—SURFACE METAL AND NONMETAL MINES

1. The authority citation for part 56 continues to read as follows:

Authority: 30 U.S.C. 811.

2. Amend § 56.5001 by revising the introductory text of paragraph (b)(1), adding a definition for asbestos fiber, and revising paragraph (b)(3) to read as follows:

§ 56.5001 Exposure limits for airborne contaminants.

* * * * *

(b) Asbestos standard—(1) Definitions. Asbestos is a generic term for a number of asbestiform hydrated silicates that, when crushed or processed, separate into flexible fibers made up of fibrils.

* * * * *

Asbestos fiber means a fiber of asbestos that meets the criteria of a fiber.

* * * * *

(3) Measurement of airborne asbestos fiber concentration. Potential asbestos fiber concentration shall be determined by phase contrast microscopy (PCM) using the OSHA Reference Method in OSHA's asbestos standard found in 29 CFR 1910.1001, Appendix A, or a method at least equivalent to that method in identifying a potential asbestos exposure exceeding the 0.1 f/cc full-shift limit or the 1 f/cc excursion limit. When PCM results indicate a potential exposure exceeding the 0.1 f/cc full-shift limit or the 1 f/cc excursion limit, samples shall be further analyzed using transmission electron microscopy according to NIOSH Method 7402 or a method at least equivalent to that method.

* * * * *

PART 57—SAFETY AND HEALTH STANDARDS—UNDERGROUND METAL AND NONMETAL MINES

3. The authority citation for part 57 continues to read as follows:

Authority: 30 U.S.C. 811.

4. Amend § 57.5001 by revising the introductory text of paragraph (b)(1), adding a definition for asbestos fiber, and revising paragraph (b)(3) to read as follows:

§ 57.5001 Exposure limits for airborne contaminants.

* * * * *

(b) Asbestos standard—(1) Definitions. Asbestos is a generic term for a number of asbestiform hydrated silicates that, when crushed or processed, separate into flexible fibers made up of fibrils.

* * * * *

Asbestos fiber means a fiber of asbestos that meets the criteria of a fiber.

* * * * *

(3) Measurement of airborne asbestos fiber concentration. Potential asbestos fiber concentration shall be determined by phase contrast microscopy (PCM) using the OSHA Reference Method in OSHA's asbestos standard found in 29 CFR 1910.1001, Appendix A, or a method at least equivalent to that method in identifying a potential asbestos exposure exceeding the 0.1 f/cc full-shift limit or the 1 f/cc excursion limit. When PCM results indicate a potential exposure exceeding the 0.1 f/cc full-shift limit or the 1 f/cc excursion limit, samples shall be further analyzed using transmission electron microscopy according to NIOSH Method 7402 or a method at least equivalent to that method.

* * * * *

PART 71—MANDATORY HEALTH STANDARDS—SURFACE COAL MINES AND SURFACE WORK AREAS OF UNDERGROUND COAL MINES

5. The authority citation for part 71 continues to read as follows:

Authority: 30 U.S.C. 811, 951, 957.

6. Amend § 71.702 by revising the introductory text of paragraph (a), adding a definition for asbestos fiber, and revising paragraph (c) to read as follows:

§ 71.702 Asbestos standard.

(a) Definitions. Asbestos is a generic term for a number of asbestiform hydrated silicates that, when crushed or processed, separate into flexible fibers made up of fibrils.

* * * * *

Asbestos fiber means a fiber of asbestos that meets the criteria of a fiber.

* * * * *

(c) Measurement of airborne asbestos fiber concentration. Potential asbestos fiber concentration shall be determined by phase contrast microscopy (PCM) using the OSHA Reference Method in OSHA's asbestos standard found in 29 CFR 1910.1001, Appendix A, or a method at least equivalent to that method in identifying a potential asbestos exposure exceeding the 0.1 f/cc full-shift limit or the 1 f/cc excursion limit. When PCM results indicate a potential exposure exceeding the 0.1 f/cc full-shift limit or the 1 f/cc excursion limit, samples shall be further analyzed using transmission electron microscopy according to NIOSH Method 7402 or a method at least equivalent to that method.

[FR Doc. E8-26440 Filed 11-6-08; 8:45 am]

BILLING CODE 4510-43-P